DEPARTMENT OF ENERGY

Federal Energy Regulatory Commission

[Project Nos. 1175-015 and 1290-012]

Appalachian Power Company; Notice of Availability of Environmental Assessment

In accordance with the National Environmental Policy Act of 1969 and the Federal Energy Regulatory Commission's regulations, 18 CFR Part 380 (Order No. 486, 52 FR 47897), the Office of Energy Projects has reviewed the application for a new license for the 28.8-megawatt (MW) London-Marmet Hydroelectric Project and the 14.76-MW Winfield Hydroelectric Project located on the Kanawha River in Fayette, Kanawha, and Putnam Counties, West Virginia, and has prepared an Environmental Assessment (EA). In the EA, Commission staff analyzes the potential environmental effects of relicensing the projects and concludes that issuing new licenses for the projects, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Comments on the EA should be filed within 30 days from the date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426. Please affix “London-Marmet Hydroelectric Project No. 1175-015 and/or Winfield Hydroelectric Project No. 1290-012” to all comments.

For further information, contact Brandi Sangunett at (202) 502-8393.

Dated: December 4, 2012.
Kimberly D. Bose,
Secretary.

[FR Doc. 2012-29797 Filed 12-10-12; 8:45 am]

BILLING CODE 6717-01-P